DEPARTMENT OF AGRICULTURE

Food and Nutrition Service

Agency Information Collection Activities; Proposed Collection; Comment Request: Information Collection for the Child and Adult Care Food Program

AGENCY: Food and Nutrition Service, USDA.

ACTION: Notice.

SUMMARY: In accordance with the Paperwork Reduction Act of 1995, this notice invites the general public and other public agencies to comment on the Agency's proposed information collection for the Child and Adult Care Food Program (CACFP). This collection is a revision of a currently approved information collection.

DATES: Written comments must be received on or before July 22, 2013.

ADDRESSES: Comments are invited on: (1) Whether the proposed collection of information is necessary for the proper performance of the Agency's functions, including whether the information will have practical utility; (2) the accuracy of the Agency's estimate of the proposed information collection burden, including the validity of the methodology and assumptions used; (3) ways to enhance the quality, utility and clarity of the information to be collected; and (4) ways to minimize the burden of the collection of information on those who are to respond, including use of appropriate automated, electronic, mechanical, or other technological collection techniques or other forms of information technology.

Comments may be sent to Jon Garcia, Program Analysis and Monitoring Branch, Child Nutrition Division, 3101 Park Center Drive, Alexandria, VA 22302. Comments will also be accepted through the Federal eRulemaking Portal. Go to http://www.regulations.gov, and follow the online instructions for submitting comments electronically.

All responses to this notice will be summarized and included in the request for Office of Management and Budget (OMB) approval. All comments will also become a matter of public record.

FOR FURTHER INFORMATION CONTACT: Requests for additional information or copies of this information collection should be directed to Jon Garcia, Program Analysis and Monitoring Branch, Child Nutrition Division, 3101 Park Center Drive, Alexandria, VA 22302.

SUPPLEMENTARY INFORMATION:

Title: Information Collection for the Child and Adult Care Food Program.

OMB Number: 0584-0055.

Expiration Date: August 31, 2013.

Type of Request: Revision of a currently approved collection.

Abstract: Section 17 of the Richard B. Russell National School Lunch Act (NSLA), as amended, (42 U.S.C. 1766), authorizes the CACFP to provide cash reimbursement and commodity assistance, on a per meal basis, for food service to children in nonresidential child care centers and family day care homes, and to eligible adults in nonresidential adult day care centers. The U.S. Department of Agriculture, through the Food and Nutrition Service, has established application, monitoring and reporting requirements to manage the CACFP effectively. The purpose of this submission to OMB is to obtain approval to continue the discussed information collection. States and service institutions participating in the CACFP will submit to FNS account and record information reflecting their efforts to comply with statutory and regulatory Program requirements. In accordance with 7 CFR 226.7(d), State agencies must submit a monthly Report of the Child and Adult Care Food Program (FNS-44) in order to receive federal reimbursement for meals served to eligible participants. However FNS-44 is no longer included in this revision as the information is being collected under separate collection (0584-0078). Examples of data collected and reported with this collection include, but are not limited to: applications and supporting documents; records of enrollment; records supporting the free and reduced price eligibility determinations; daily records indicating numbers of program participants in attendance and the number of meals served by type and category; and receipts, invoices and other records of CACFP costs and documentation of non-profit operation of food service.

This is a revision of a currently approved collection. This revision made many program adjustments to reporting and record keeping burden hours. These adjustments included: Recalculation of time required to complete existing program tasks in light of advanced technology and process simplification (e.g., application and renewal processes now computerized and completed on line; claims processing now electronic; memos and regulatory updates posted on State agency Web sites; etc.); transfer of certain burden tasks to different collection (e.g., burden associated with Federal/State agreement now collected under State Administrative Expense Funds); reclassification as administrative of tasks previously deemed reporting; and corrections to certain burden tasks (previous burden included administrative burden by error) since last renewal. These changes translated to reduction of number of respondents and reduction in the amount of time it takes to complete a particular task (estimated number of hours per response) and resulted in overall burden change since last renewal. Current OMB inventory for this collection consists of 7,032,960 hours. As a result of program adjustments and reevaluation of existing program tasks, program burden was significantly reduced by 4,799,115 hours since last renewal. The average burden per response and the annual burden hours for reporting and recordkeeping are explained below and summarized in the charts which follow.

Affected Public: 56 State agencies, 20,398 Institutions, 166,585 facilities (includes 127,977, family day care homes and 38,608 sponsored center facilities) and 2,178,065 individuals and households.

Estimated Number of Respondents: 2,552,143.

Estimated Number of Responses per Respondent: 2.138.

Estimated Total Annual Responses: 5,456,645.

Estimate Time per Response: 0.409355 hrs.

Estimated Total Annual Burden: 2,233,706 hrs.

Current OMB Inventory for Part 226: 7,032,960 hrs.

Difference (change in burden with this renewal): (4,799,115) hrs.

Refer to the table below for estimated total annual burden.

Affected public | Estimate number of respondents | Number of responses per respondent | Total annual responses | Estimate total hours per response | Estimate total burden
Reporting
State Agencies | 56 | 583.160714 | 32,657 | 0.196 | 6,405
Sponsor/Institution | 20,398 | 26.740661 | 545,698 | 1.096 | 597,080
Facility | 166,585 | 12 | 1,999,020 | 0.442 | 883,686
Individual/Household | 2,178,065 | 1 | 2,178,065 | 0.083 | 180,779
Total Estimated Reporting Burden | 2,365,104 |  | 4,755,440 |  | 1,668,951
Recordkeeping
State Agencies | 56 | 6 | 336 | 0.916667 | 308
Sponsor/Institution | 20,398 | 9.8595 | 201,114 | 0.321668 | 64,692
Facility | 166,585 | 3 | 499,755 | 1 | 499,755
Total Estimated Recordkeeping Burden | 187,039 |  | 701,205 |  | 564,755

Total of Reporting and Recordkeeping CACFP
| Estimate number of respondents | Number of responses per respondent | Total annual responses | Estimate total hours per response | Estimate total burden
Reporting | 2,365,104 | 2.01 | 4,755,440 | 0.351 | 1,668,951
Recordkeeping | 187,039 | 3.749 | 701,205 | 0.805 | 564,755
Total | 2,552,143 | 2.138064 | 5,456,645 | .409 | 2,233,706

Dated: May 15, 2013.
Audrey Rowe,
Administrator, Food and Nutrition Service.

[FR Doc. 2013-12275 Filed 5-22-13; 8:45 am]

BILLING CODE 3410-30-P